DEPARTMENT OF JUSTICE

Notice of Lodging of Consent Decree Under the Comprehensive Environmental Response, Compensation, and Liability Act

Notice is hereby given that on April 21, 2004, a proposed Consent Decree in United States v. The Glidden Company, Civil Action No. 1:02CV2447, was lodged with the United States District Court for the Northern District of Ohio.

In this action the United States sought, under Section 107 of the Comprehensive Environmental Response, Compensation, and Recovery Act (“CERCLA”), 42 U.S.C. 9607, to recover costs incurred by the United States in connection with the Ohio Drum Superfund Site in Cleveland, Ohio (the “Site”). The United States also sought a civil penalty and punitive damages for noncompliance with a unilateral administrative order (“UAO”) issued by the United States Environmental Projection Agency (“U.S. EPA”), and a declaratory judgment of liability for future response costs incurred by the United States in connection with the Site.

Under the Consent Decree, The Glidden Company (“Glidden”) would reimburse the United States for $343,000 of the approximately $502,316 in unreimbursed response costs incurred by U.S. EPA relating to the Site. If such payment is not received when due, the Consent Decree provides for a stipulated penalty in the amount of $500 per day. In addition, Glidden would covenant not to sue the United States: (a) With respect to Past Response Costs (as defined in the Consent Decree); (b) with respect to the UAO; or (c) with respect to the Consent Decree. In exchange, the United States would covenant not to sue Gliden: (a) Pursuant to Section 107(a) of CERCLA, 42 U.S.C. 9607(a), to recover Past Response Costs; and (b) pursuant to Section 106(b)(1) of CERCLA, 42 U.S.C. 9606(b)(1), for its alleged failure to comply with the UAO, with certain reservations. In addition, Glidden would receive protection for contribution actions or claims pertaining to Past Response Costs, as provided by Section 113(f)(2) of CERCLA, 42 U.S.C. 9613(f)(2).

The Department of Justice will receive for a period of thirty (30) days from the date of this publication comments relating to the Consent Decree. Comments should be addressed to the Assistant Attorney General, Environment and Natural Resources Division, P.O. Box 7611, U.S. Department of Justice, Washington, DC 20044-7611, and should refer to United States v. Glidden Company, D.J. Ref. 90-11-2-1300/3.

The Consent Decree may be examined at the Office of the United States Attorney, 1800 Bank One Center, 600 Superior Avenue, East, Cleveland, Ohio 44114-2600, and at U.S. EPA Region V, 77 West Jackson Blvd., Chicago, IL 60604. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury.

William D. Brighton,
Assistant Chief, Environmental Enforcement Section, Environment and Natural Resources Division.

[FR Doc. 04-10257 Filed 5-5-04; 8:45 am]

BILLING CODE 4410-15-M